FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201355.

Agreement Name: NPDL/PFLG Slot Charter Agreement.

Parties: Pacific Forum Line (Group) Limited and Neptune Pacific Direct Line Pte. Ltd.

Filing Party: David Monroe; GKG Law, P.C.

Synopsis: The Agreement authorizes Neptune Pacific Direct Line to charter space to Pacific Forum Line Group in the South Pacific trades.

Proposed Effective Date: 2/16/2021.

Location: https://www2.fmc.gov/FMC.Agreements.Web/Public/AgreementHistory/39509.

Agreement No.: 201356.

Agreement Name: PFLG/NPDL Slot Charter Agreement.

Parties: Pacific Forum Line (Group) Limited and Neptune Pacific Direct Line Pte. Ltd.

Filing Party: David Monroe; GKG Law, P.C.

Synopsis: The Agreement authorizes Pacific Forum Line Group to charter space to Neptune Pacific Direct Line in the South Pacific trades.

Proposed Effective Date: 2/16/2021.

Location: https://www2.fmc.gov/FMC.Agreements.Web/Public/AgreementHistory/39510.

Agreement No.: 012161-003.

Agreement Name: Siem Car Carriers AS/Hyundai Glovis Co., Ltd. Space Charter Agreement.

Parties: Siem Car Carriers AS and Hyundai Glovis Co., Ltd.

Filing Party: Elizabeth Lowe; Venable LLP.

Synopsis: The amendment updates the geographic scope of the Agreement, clarifies the terms of charter, and makes administrative updates to the Agreement.

Proposed Effective Date: 2/19/2021.

Location: https://www2.fmc.gov/FMC.Agreements.Web/Public/AgreementHistory/317.

Agreement No.: 010979-066.

Agreement Name: Caribbean Shipowners Association.

Parties: Seaboard Marine, Ltd.; Crowley Caribbean Services LLC; Tropical Shipping & Construction Company Limited, LLC;, Hybur Ltd.; and King Ocean Services Limited.

Filing Party: Wayne Rohde; Cozen O'Connor.

Synopsis: The amendment changes the name of Tropical Shipping and Construction.

Proposed Effective Date: 2/16/2021.

Location: https://www2.fmc.gov/FMC.Agreements.Web/Public/AgreementHistory/1194.

Agreement No.: 011953-014.

Agreement Name: Florida Shipowners Group Agreement.

Parties: Crowley Caribbean Services LLC; Hybur Ltd.; King Ocean Services Limited; Seaboard Marine, Ltd.; and Tropical Shipping & Construction Company Limited, LLC.

Filing Party: Wayne Rohde; Cozen O'Connor.

Synopsis: The amendment changes the name of Tropical Shipping and Construction and deletes CMA CGM and Zim Integrated Shipping Services as parties to the agreement.

Proposed Effective Date: 2/16/2021.

Location: https://www2.fmc.gov/FMC.Agreements.Web/Public/AgreementHistory/521.

Dated: February 22, 2021.
Rachel E. Dickon,
Secretary.

[FR Doc. 2021-03956 Filed 2-25-21; 8:45 am]

BILLING CODE 6730-02-P